DEPARTMENT OF THE TREASURY

Office of Foreign Assets Control

Sanctions Actions Pursuant to Executive Order 13581

AGENCY: Office of Foreign Assets Control, Treasury.

ACTION: Notice.

SUMMARY: The Treasury Department's Office of Foreign Assets Control (“OFAC”) is publishing the names of two entities whose property and interests in property are blocked pursuant to Executive Order 13581 of July 24, 2011, “Blocking Property of Transnational Criminal Organizations.”

DATES: OFAC's actions described in this notice were effective on November 12, 2015.

FOR FURTHER INFORMATION CONTACT: The Department of the Treasury's Office of Foreign Assets Control: Assistant Director for Licensing, tel.: 202-622-2480, Assistant Director for Policy, tel.: 202-622-2746, Assistant Director for Regulatory Affairs, tel.: 202-622-4855, Assistant Director for Sanctions Compliance & Evaluation, tel.: 202-622-2490; or the Department of the Treasury's Chief Counsel (Foreign Assets Control), Office of the General Counsel, tel.: 202-622-2410.

SUPPLEMENTARY INFORMATION:

Electronic and Facsimile Availability

This document and additional information concerning OFAC are available from OFAC's Web site (www.treasury.gov/ofac). Certain general information pertaining to OFAC's sanctions programs is also available via facsimile through a 24-hour fax-on-demand service, tel.: 202/622-0077.

Notice of OFAC Actions

On November 12, 2015, the Director of OFAC, in consultation with the Attorney General and the Secretary of State, blocked the property and interests in property of the following two entities pursuant to the Order:

1. ALTAF KHANANI MONEY LAUNDERING ORGANIZATION, Australia; Canada; Pakistan; United Arab Emirates; United Kingdom; United States [TCO].

2. AL ZAROONI EXCHANGE (a.k.a. ALZROONI EXCHANGE; a.k.a. M/S. AL ZAROONI EXCHANGE), P.O. Box 116348, Dubai, United Arab Emirates; Near Florida Hotel, Building of Abdul Rahim Mohd. Ismail Badri, Al Sabkha Street, Naif Road, Deira, Dubai, United Arab Emirates; Sikhat Al Khail Road, Dubai, United Arab Emirates; Web site www.alzarooniexchange.ae, C.R. No. 91715; Dubai Chamber of Commerce Membership No. 70103; RTN 823410101; License 535436 [TCO].

Dated: November 12, 2015.
Andrea M. Gacki,
Acting Director, Office of Foreign Assets Control.

[FR Doc. 2015-29383 Filed 11-17-15; 8:45 am]

BILLING CODE 4810-AL-P